DEPARTMENT OF LABOR

Employment and Training Administration

[TA-W-65,784]

Oval International, Hoquiam, WA; Notice of Negative Determination on Reconsideration

On September 29, 2009, the Department issued an Affirmative Determination Regarding Application for Reconsideration for the workers and former workers of the subject firm. The notice was published in the Federal Register on October 20, 2009 (74 FR 53763).

The initial investigation resulted in a negative determination based on the finding that imports of pulp bale strapping machines and spare parts did not contribute importantly to worker separations at the subject firm and no shift of production to a foreign source occurred. The “contributed importantly” test is generally demonstrated through a survey of the workers' firm's declining domestic customers. The survey of the major declining customers revealed no imports of pulp bale strapping machines and spare parts 2007, 2008 and January through March 2009. The subject firm reported declining imports of pulp bale strapping machines and spare parts during the relevant period.

In the request for reconsideration, the petitioner stated that workers of the subject firm were previously certified eligible for Trade Adjustment Assistance (TAA) based on a shift in production to Canada and other offshore locations. The petitioner further stated that since the production shift, workers of the subject firm “mainly dealt with sales, service, production and distribution of spare parts.” The petitioner also alleged that the company continued shifting production of spare parts abroad and that imports of spare parts increased.

When assessing eligibility for TAA, the Department exclusively considers shift in production and import impact during the relevant period (from one year prior to the date of the petition). The Department of Labor contacted a company official to verify whether Oval International shifted production of spare parts from the subject facility abroad during the relevant period. The company official stated that the subject firm did not shift production of spare parts abroad in 2008 or 2009.

Furthermore, the investigation revealed that neither the subject firm nor its customers increased imports of pulp bale strapping machines and spare parts during the relevant period.

Conclusion

After reconsideration, I affirm the original notice of negative determination of eligibility to apply for worker adjustment assistance for workers and former workers of Oval International, Hoquiam, Washington.

Signed at Washington, DC, this 10th day of December 2009.
Elliott S. Kushner,
Certifying Officer, Division of Trade Adjustment Assistance.

[FR Doc. E9-30250 Filed 12-18-09; 8:45 am]

BILLING CODE 4510-FN-P